DEPARTMENT OF DEFENSE

Department of the Navy

Notice of Intent To Grant Partially Exclusive License; National Technology Transfer Center (NTTC)

AGENCY: Department of the Navy, DOD.

ACTION: Notice.

SUMMARY: The Department of the Navy hereby gives notice of a prospective license to National Technology Transfer Center (NTTC), 316 Washington Ave, Wheeling, WV 26003 to the Government-owned invention described in U.S. Patent No. 5,601,452 issued on February 11, 1999 for “NON-ARCING CLAMP FOR AUTOMOTIVE BATTERY JUMPER CABLES” to Anthony A. Ruffa.

DATES: Anyone wishing to object to the grant of this license must file written objections along with supporting evidence, if any, not later than June 10, 2000.

FOR FURTHER INFORMATION CONTACT: Mr. Michael J. McGowan, Patent Counsel, Naval Undersea Warfare Center, Newport Division (NUWCDIVNPT) Code 00OC, Bldg. 112T, 1176 Howell Street, Newport, RI 02841, telephone 1-401-832-4736.

(Authority: 35 U.S.C. 207, 37 CFR Part 404)

Dated: May 3, 2000.
J.L. Roth,
Lieutenant Commander, Judge Advocate General's Corps, U.S. Navy, Alternate Federal Register Liaison Officer.

[FR Doc. 00-11845 Filed 5-10-00; 8:45 am]

BILLING CODE 3810-FF-P